DEPARTMENT OF ENERGY

Federal Energy Regulatory Commission

[Docket No. EC04-127-000, et al.]

National Energy & Gas Transmission, Inc., et al.; Electric Rate and Corporate Filings

July 9, 2004.

The following filings have been made with the Commission. The filings are listed in ascending order within each docket classification.

1. National Energy & Gas Transmission, Inc.

[Docket No. EC04-127-000]

Take notice that on July 2, 2004, National Energy & Gas Transmission, Inc. filed with the Federal Energy Regulatory Commission an application pursuant to section 203 of the Federal Power Act for authorization to transfer in excess of 5 percent of the new NEGT common stock to certain investment funds, which are creditors of NEGT, in order to implement a proposed plan of reorganization filed with the United States Bankruptcy Court for the District of Maryland (Greenbelt Division) as more fully described in the application.

Comment Date: July 23, 2004.

2. EK Holding I, LLC, and EK Holding III, LLC

[Docket No. EC04-128-000]

Take notice that on July 6, 2004, EK Holding I, LLC (EKH I) and EK Holding III, LLC (EKH III) (collectively, Applicants) filed an application pursuant to section 203 of the Federal Power Act (FPA), 16 U.S.C. 824b (2003), and part 33 of the Commission's regulations, 18 CFR 33.1, et seq. (2003). The Applicants request that the Commission provide any necessary approvals under section 203 of the FPA for the Applicants to engage in an internal corporate reorganization that will result in the merger of EKH III with and into EKH I. Although Applicants state that they do not believe that the reorganization will effect a disposition of jurisdictional facilities under section 203, Applicants accede, without prejudice, to the Commission's jurisdiction over the reorganization under section 203, in order to facilitate the closing of the reorganization and to ensure compliance with the Commission's requirements should section 203 be deemed to be applicable. Applicants request approval of the reorganization as soon as possible, but no later than August 20, 2004.

Comment Date: July 27, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-1589 Filed 7-15-04; 8:45 am]

BILLING CODE 6717-01-P